DEPARTMENT OF EDUCATION

Regional Advisory Committees: Open Meeting

AGENCY: Office of Elementary and Secondary Education, ED.

ACTION: Notice of open orientation meeting.

SUMMARY: This notice sets forth the schedule and agenda of the forthcoming orientation meeting of the Regional Advisory Committees (RACs). This notice also describes the functions of the RACs. Notice of this meeting is required under section 10(a)(2) of the Federal Advisory Committee Act and is intended to notify the public of their opportunity to attend.

DATES: December 2, 2004, from 8:30 a.m. to 4 p.m. and December 3, 2004, from 8:30 a.m. to 3:30 p.m.

ADDRESSES: The Mayflower Hotel, 1127 Connecticut Ave., NW., Washington, DC 20036.

FOR FURTHER INFORMATION CONTACT: Enid Simmons, 202-708-9499 or at enid.simmons@ed.gov.

SUPPLEMENTARY INFORMATION: The Regional Advisory Committees are established under section 206 of the Educational Technical Assistance Act of 2002, (20 U.S.C. 9605). The RACs are to advise the Secretary by (1) conducting an educational needs assessment of each region described in section 174(b) of the Education Sciences Reform Act of 2002; and (2) submitting reports for each region based on the regional assessments no later than 4 months after the committees are first convened.

The general public is welcome to attend the December 2-3, 2004, orientation meeting. However, space is limited and will be available to persons who pre-register. Registration will be accepted on a first-come, first-served basis up to the limits of the space available. Individuals who want to attend the meeting must send their name and contact information to Geogette Joyner at The CNA Corporation, 4825 Mark Center Drive, Alexandria, VA 22311, or at joynerg@cna.org, by no later than Monday, November 29, 2004.

Individuals who will need accommodations for a disability in order to attend the meeting (i.e. interpreting services, assistive listening devices, materials in alternative format) should notify Georgette Joyner at The CNA Corporation by no later than Monday, November 29, 2004. We will attempt to meet requests after this date, but cannot guarantee availability of the requested accommodation. The meeting site is accessible to individuals with disabilities.

The purposes of the open meeting are to:

(1) Orient RAC members to:

• The legislative charge that will guide their work,

• The status of the RACs with regard to FACA,

• The FACA operational and reporting procedures they will need to follow,

• RAC and member roles, responsibilities and tasks, and

• The parameters within which each RAC is to undertake and complete its needs assessment and finalize its report;

(2) Familiarize RAC members with available assistance and tools; and

(3) Help each RAC formulate a framework for conducting its work.

A summary of meeting activities will be available to the public online (http://www.rac-ed.org) within 14 days of the meeting and for public inspection at the office of Georgette Joyner, The CNA Corporation, 4825 Mark Center Drive, Alexandria, VA 22311 between the hours of 9 a.m. and 5 p.m.

Dated: November 8, 2004.
Raymond Simon,
Assistant Secretary, OESE.

[FR Doc. 04-25375 Filed 11-15-04; 8:45 am]

BILLING CODE 4000-01-M